DEPARTMENT OF DEFENSE

Office of the Secretary

[Docket ID: DoD-2022-OS-0113]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by July 29, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Prevention Workforce Evaluation; DoD-wide Data Collection and Analysis for the Department of Defense Qualitative and Quantitative Data Collection in Support of the Independent Review Commission on Sexual Assault Recommendations; OMB Control Number 0704-0644.

Type of request: Revision.

Number of respondents: 12,324.

Responses per respondent: 1.

Annual responses: 12,324.

Average burden per response: 1 hour.

Annual Burden Hours: 12,324.

Needs and uses: The Independent Review Commission on Sexual Assault in the Military recommended that the Department establish a prevention workforce model (Recommendation 2.2a) and an integrated primary prevention workforce (IPPW, Recommendation 2.2c), and this recommendation was endorsed by Secretary of Defense as a priority for DoD. To that end, the DoD is planning to hire a new Integrated Primary Prevention Workforce (IPPW) of approximately 2,000 personnel. Following the approval of the model, the OUSD(P&R) directed an evaluation of the new workforce to assess its implementation. The OUSD(P&R) within the DoD is requesting OMB clearance to evaluate the how well the IPPW was established and the quality of the prevention activities they implement. This evaluation will collect a variety of information about the IPPW and their activities (Hiring numbers of the IPPW, online IPP Personnel Survey, Case Studies, Supervisor/Leader Interviews, and Integrated Primary Prevention Activity Tracker). This data will be used to improve the implementation of integrated primary prevention activities within DoD. Information collection efforts will align to the IRC Line of Effort 2—Prevention.

Affected public: DoD Service members, DoD civilians.

Frequency: Annual.

Respondent's obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: June 25, 2024.
Aaron T. Siegel,
Alternate OSD Federal Register Liaison Officer, Department of Defense.

[FR Doc. 2024-14322 Filed 6-27-24; 8:45 am]

BILLING CODE 6001-FR-P